DEPARTMENT OF TRANSPORTATION

Federal Railroad Administration

[Docket Number FRA-2008-0134]

Petition for Waiver of Compliance

In accordance with part 211 of title 49 Code of Federal Regulations (CFR), this document provides the public notice that by a document dated December 7, 2015, the Southern California Regional Rail Authority (SCRRA) has petitioned the Federal Railroad Administration (FRA) for a modification to the conditions of the waiver granting relief from certain provisions of 49 CFR part 236, Rules, Standards, and Instructions Governing the Installation, Inspection, Maintenance, and Repair of Signal and Train Control Systems, Devices, and Appliances, in Docket Number FRA-2008-0134.

FRA granted relief to SCRRA in a January 9, 2009, decision letter which delineated certain conditions for the waiver. This request is for the modification of the condition requiring that all passenger trains be equipped to respond to the intermittent inert Automatic Train Stop (ATS) in accordance with 49 CFR 236.566, Locomotive of each train operating in train stop, train control or cab signal territory; equipped.

SCRRA plans to lease a maximum of 40 freight locomotives from BNSF Railway (BNSF) which are not equipped with ATS for a period not to exceed 1 year. SCRRA operates in a push-pull mode and plans to use the GE AC4400CW leased locomotives as buffers in front of the cab cars. SCRRA is taking this step due to a fleet-wide safety issue identified with the cab cars after a collision and derailment. During the next year, each cab car will be evaluated and modified as necessary before being placed in the lead position of any consist. SCRRA currently operates all revenue trains with the Interoperable Electronic Train Management System (I-ETMS) on all subdivisions owned and dispatched by SCRRA. The locomotives leased to SCRRA from BNSF are equipped with fully functional I-ETMS which was tested and found to be compatible with the SCRRA I-ETMS, as well as SCRRA rail equipment.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 12, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-00525 Filed 1-12-16; 8:45 am]

BILLING CODE 4910-06-P